DEPARTMENT OF COMMERCE

National Oceanic and Atmospheric Administration

RIN 0648-XA873

Endangered Species; File No. 15566

AGENCY: National Marine Fisheries Service (NMFS), National Oceanic and Atmospheric Administration (NOAA), Commerce.

ACTION: Notice; issuance of permit modification.

SUMMARY: Notice is hereby given that South Carolina Department of Natural Resources, Marine Resources Division, Charleston, SC 29422-2559 [Responsible Party: Mike Arendt] has been issued a modification to scientific research Permit No. 15566.

ADDRESSES: The modification and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Kristy Beard or Amy Hapeman, (301) 427-8401.

SUPPLEMENTARY INFORMATION: On December 20, 2011, notice was published in the Federal Register (76 FR 78890) that a modification of Permit No. 15566 had been requested by the above-named organization. The requested modification has been granted under the authority of the Endangered Species Act of 1973, as amended (ESA; 16 U.S.C. 1531 et seq.), and the regulations governing the taking, importing, and exporting of endangered and threatened species (50 CFR 222-226).

Permit No. 15566, issued April 8, 2011 (76 FR 22877), authorizes capture by trawl of 345 loggerhead (Caretta caretta), 29 Kemp's ridley (Lepidochelys kempii), 9 green (Chelonia mydas), 1 leatherback (Dermochelys coriacea), and 1 hawksbill (Eretmochelys imbricata) sea turtle to assess temporal change in catch rates, size distributions, sex and genetic ratios, and health of sea turtles. Captures occur annually in coastal waters between Winyah Bay, SC and St. Augustine, FL. Turtles may be handled, blood sampled, measured, flipper and passive integrated transponder (PIT) tagged, photographed, and released. A subsample of animals are subject to barnacle, keratin, fecal, and tissue sampling, cloacal swabs, and attachment of satellite and/or VHF transmitters. Up to five loggerhead, one Kemp's ridley, one green, one leatherback, and one hawksbill sea turtle could be accidentally killed over the life of the permit. Permit No. 15566-01 increases the number of Kemp's ridleys that may be captured from 29 to 79 turtles annually. The 50 additional sea turtles will be captured, handled, blood sampled, measured, flipper and PIT tagged, photographed, and released.

Issuance of this modification, as required by the ESA, was based on a finding that such permit (1) was applied for in good faith, (2) will not operate to the disadvantage of such endangered or threatened species, and (3) is consistent with the purposes and policies set forth in section 2 of the ESA.

Dated: May 7, 2012.
Tammy C. Adams,
Acting Chief, Permits and Conservation Division, Office of Protected Resources, National Marine Fisheries Service.

[FR Doc. 2012-11522 Filed 5-10-12; 8:45 am]

BILLING CODE 3510-22-P